INTERNATIONAL TRADE COMMISSION

[Investigation. No. 337-TA-1376]

Certain Electronic Devices, Including Mobile Phones, Tablets, Laptops, Components Thereof, and Products Containing the Same; Notice of Institution of Investigation

AGENCY: International Trade Commission.

ACTION: Notice.

SUMMARY: Notice is hereby given that a complaint was filed with the U.S. International Trade Commission on October 12, 2023, under section 337 of the Tariff Act of 1930, as amended, on behalf of Ericsson AB of Sweden and Telefonaktiebolaget LM Ericsson of Sweden. Supplements to the Complaint were filed on October 31, 2023 and November 9, 2023. The complaint alleges violations of section 337 based upon the importation into the United States, the sale for importation, and the sale within the United States after importation of certain electronic devices, including mobile phones, tablets, laptops, components thereof, and products containing the same by reason of the infringement of certain claims of U.S. Patent No. 7,151,430 (“the '430 patent”); U.S. Patent No. 9,509,273 (“the '273 patent”); U.S. Patent No. 9,313,178 (“the '178 patent”); U.S. Patent No. 11,122,313 (“the '313 patent”); and U.S. Patent No. 10,972,654 (“the '654 patent”). The complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on November 13, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 2-8, 11, and 13-18 of the '430 patent; claims 1-4, 7-10, 12-14, 16, and 18 of the '273 patent; claims 1-5 and 16-18 of the '178 patent; claims 1-4, 6, 11-14, and 16 of the '313 patent; and claims 1, 3, 9, 10, 15, and 16 of the '654 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “mobile phones, tablet computers, laptop computers, components thereof and products containing the same”;

(3) For the purpose of the investigation so instituted, the following are hereby named as parties upon which this notice of investigation shall be served:

(a) The complainants are:

Ericsson AB, Torshamnsgatan 23, Kista, Stockholm, Sweden

Telefonaktiebolaget LM Ericsson, Torshamnsgatan 21, Kista, Stockholm, Sweden

(b) The respondents are the following entities alleged to be in violation of section 337, and are the parties upon which the complaint is to be served:

Motorola Mobility LLC, 222 W. Merchandise Mart Plaza, Suite 1800, Chicago, Illinois 60654

Lenovo (United States) Inc., 1009 Think Place, Building One, Morrisville, NC 27560

Lenovo Group Limited, 23rd Floor, Lincoln House, Taikoo Place, 979 King's Road, Quarry Bay, Hong Kong SAR

Lenovo (Shanghai) Electronics, Technology Co., Ltd., Part 304-305, Building 4, No. 222, Meiyue Road, Pilot Free Trade Zone, Pudong, New District, Shang Hai Shi, 200131 Shanghai

Lenovo Beijing Co., Limited, 6 Chuang ye Road, Haidian District, Beijing 100085, China

Lenovo PC HK Limited, 23/F., Lincoln House, Taikoo Place, 979 King's Road, Hong Kong

Lenovo Information Products, (Shenzhen) Co. Ltd., Fuitan Trade Zone, ISH2 Building, No. 3, Guanglan Road, 518038 Shenzhen

Motorola (Wuhan) Mobility, Technologies Communication Company, Limited, 19, Gaoxin 4th Road, Donghu New, Technology Development Zone, Hubei, 430205 Wuhan, China

(4) For the investigation so instituted, the Chief Administrative Law Judge, U.S. International Trade Commission, shall designate the presiding Administrative Law Judge.

The Office of Unfair Import Investigations is not participating as a party to this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 14, 2023.
Lisa Barton,
Secretary to the Commission.

[FR Doc. 2023-25441 Filed 11-16-23; 8:45 am]

BILLING CODE 7020-02-P